DEPARTMENT OF HOUSING AND URBAN DEVELOPMENT

[Docket No. FR-5600-N-20]

Announcement of Funding Awards for the Assisted Living Conversion Program Fiscal Year 2012

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Notice of Funding Availability (NOFA) for the Assisted Living Conversion Program (ALCP). This announcement contains the names of the grantees and the amounts of the awards made available by HUD.

FOR FURTHER INFORMATION CONTACT: Aretha Williams, Acting Director, Office of Housing Assistance and Grant Administration, 451 7th Street SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The ALCP is authorized by Section 202b of the Housing Act of 1959 (12 U.S.C.1701q-2) and the Consolidated Appropriations Act, 2012 (Pub. L. 112-55 approved December 23, 2011).

The competition was announced in the NOFA published in the Federal Register on March 14, 2012. Applications were rated and selected for funding on the basis of selection criteria contained in that Notice.

The Catalog of Federal Domestic Assistance number for this program is 14.314.

The Assisted Living Conversion Program is designed to provide funds to private nonprofit Owners to convert their projects (that is, projects funded under Section 202, Section 8 project-based [including Rural Housing Services' Section 515], Section 221(d)(3) BMIR, Section 236, and unused and underutilized commercial properties) to assisted living facilities. Grant funds are used to convert the units and related space for the assisted living facility.

A total of $25,976,207 was awarded to 11 projects for 233 units nationwide. In accordance with section 102(a)(4)(C) of the Department of Housing and Urban Development Reform Act of 1989 (103 Stat. 1987. 42 U.S.C. 3545), the Department is publishing the grantees and amounts of the awards in Appendix A of this document.

Dated: April 18, 2013.
Laura M. Marin,
Acting General Deputy Assistant Secretary for Housing—Federal Housing Commissioner.

Fiscal Year 2012 Assisted Living Conversion Program

Arizona

Cottonwood, Christian Housing Cottonwood Inc., $1,717,057

California

Half Moon Bay, The Lesley Foundation, $4,092,467

Connecticut

Hartford, Horace Bushnell Congregate Homes, Inc. $2,329,870

New Haven, New Haven Jewish Community Council Housing Corporation, $2,377,570

Denver

Delta, Delta VOA Elderly Housing Inc., $1,376,886

Massachusetts

Reading, Peter Sanborn Place, Inc., $2,242,704

Minneapolis

Saint Louis Park, Menorah Plaza Housing Corporation, $1,492,276

New York

Buffalo, Ken-Ton Presbyterian Village, $2,591,284

Syracuse, Bernardine Apartments, Inc., $2,037,503

Ohio

Baltimore, NCR of Baltimore, $3,284,302

Texas

Dallas, Fowler Christian Apartments, Inc., $2,434,287

[FR Doc. 2013-11554 Filed 5-14-13; 8:45 am]

BILLING CODE 4210-67-P